DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: The Ocean Enterprise: A study of US business activity in ocean measurement, observation, and forecasting.

OMB Control Number: 0648-0712.

Form Number(s): None.

Type of Request: Regular (Reinstatement, with change, of a previously approved collection for which approval has expired).

Number of Respondents: 200.

Average Hours per Response: 0.5 hours.

Burden Hours: 100 hours.

Needs and Uses: NOAA's National Ocean Service is requesting approval to repeat a web-based survey of employers who provide either services or infrastructure to the Integrated Ocean Observing System (IOOS) or organizations that add value to the IOOS data and other outputs by tailoring them for specific end uses. The purpose of the survey and overall project is to gather data to articulate the collective and derived value of the IOOS enterprise, and to create a profile of businesses and organizations who are involved with providing services or utilizing the data for other specific end uses. This will be the second survey of its kind on a national scale following the first survey conducted in FY2015.

The web survey will be the final data collection piece of this repeat study and is necessary in order to collect demographic, financial, and functional information for each organization with regard to their involvement with IOOS. The final deliverable of this project is an analytic report detailing the findings of the web survey and the analysis of the employer database. The marine technology industry is an important partner and stakeholder within IOOS: This follow up study will build upon the previous baseline study conducted in FY2015 and will identify trends in this important industry cluster. This information can be used to understand the changing value of export sales and the identification of potential growth and/or new international markets which would further the Department of Commerce (DOC) strategic goal for better environment intelligence (https://www.commerce.gov/sites/commerce.gov/files/us_department_of_commerce_2018-2022_strategic_plan.pdf) and translate into better programs by the DOC International Trade Administration in ocean observing industries in international trade.

Affected Public: Business or other for profit; not-for-profit institutions.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-14853 Filed 7-11-19; 8:45 am]

BILLING CODE 3510-JE-P